ENVIRONMENTAL PROTECTION AGENCY

[OECA-2004-0024; FRL-7868-3]

Agency Information Collection Activities; Submission for OMB Review and Approval; Comment Request; Source Compliance and State Action Reporting (Renewal), ICR Number 0107.08, OMB Number 2060-0096

AGENCY: Environmental Protection Agency (EPA).

ACTION: Notice.

SUMMARY: In compliance with the Paperwork Reduction Act, this document announces that an Information Collection Request (ICR) has been forwarded to the Office of Management and Budget (OMB) for review and approval. This is a request to renew an existing approved collection. This ICR is scheduled to expire on February 28, 2005. Under OMB regulations, the Agency may continue to conduct or sponsor the collection of information while this submission is pending at OMB. This ICR describes the nature of the information collection and its estimated burden and cost.

DATES: Additional comments may be submitted on or before March 7, 2005.

ADDRESSES: Submit your comments, referencing docket ID number OECA-2004-0024, to (1) EPA online using EDOCKET (our preferred method), by e-mail to docket.oeca@epa.gov, or by mail to: Environmental Protection Agency, EPA Docket Center (EPA/DC), Enforcement and Compliance Docket and Information Center, Mail Code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Betsy Metcalf, Enforcement and Targeting Data Division, Office of Compliance, 2222A, Environmental Protection Agency, 1200 Pennsylvania Avenue, NW., Washington, DC 20460; telephone number: (202) 564-5962; fax number: (202) 564-0032; e-mail address: metcalf.betsy@epa.gov.

SUPPLEMENTARY INFORMATION: EPA has submitted the following ICR to OMB for review and approval according to the procedures prescribed in 5 CFR 1320.12. On June 1, 2004 (69 FR 30897), EPA sought comments on this ICR pursuant to 5 CFR 1320.8(d). EPA has addressed the comments received.

EPA has established a public docket for this ICR under Docket ID No. OECA-2004-0024, which is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center Docket is: (202) 566-1752. An electronic version of the public docket is available through EPA Dockets (EDOCKET) at http://www.epa.gov/edocket. Use EDOCKET to submit or view public comments, access the index listing of the contents of the public docket, and to access those documents in the public docket that are available electronically. When in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, confidential business information, (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Source Compliance and State Action Reporting (Renewal).

Abstract: Source Compliance and State Action Reporting is an activity whereby State, District, Local, and Commonwealth governments (hereafter referred to as “states/locals” or “state and local agencies”) make air compliance information available to the U.S. Environmental Protection Agency (EPA or the Agency) on a cyclic basis via input to the Air Facility System (AFS). The information provided to EPA includes compliance activities and determinations, and enforcement activities. EPA uses this information to assess progress toward meeting emission requirements developed under the authority of the Clean Air Act (CAA or the Act) to protect and maintain the atmospheric environment and the public health. The EPA and many of the state and local agencies access the data in AFS to assist them in the management of their air pollution control programs. This renewal information collection request (ICR) affects oversight of approximately 41,500 stationary sources by 93 state and local agencies and the Federal EPA, and is expected to require 144,089 labor hours per year and cost approximately $5.5 million annually. State and local agency burdens and costs are estimated as 110,809 hours and approximately $3.7 million annually. On average, this burden amounts to approximately one-third of a full-time equivalent employee for each small state and local agency, three-fourths of a full-time equivalent employee for each medium sized state and local agency and one and one-third of a full-time equivalent employee for each large sized state and local agency for national reporting of compliance- and enforcement-related data under all of the applicable Clean Air Act programs. The first notice for the renewal of this collection sought to add the following new reporting requirements: Addition of the subpart identifier in the air program record, addition of the pollutant code to stack test actions, addition of the High Priority Violator (HPV) “Violation Discovered” activity and date, addition of the HPV violation type code and violating pollutants, revised reporting frequency for state/local agencies from quarterly to 30 days, reporting all Partial Compliance Evaluations (PCEs), and the reporting of Permit Program Data Elements (PPDEs).

An agency may not conduct or sponsor, and a person is not required to respond to, a collection of information unless it displays a currently valid OMB Control Number. The OMB Control Numbers for EPA's regulations are listed in 40 CFR part 9 and 48 CFR chapter 15, and are identified on the form and/or instrument, if applicable.

Burden Statement: The annual public reporting and recordkeeping burden for this collection of information is estimated to average 18,468 hours per response (six responses per year for a state/local agency). Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: State, local or tribal government.

Estimated Number of Respondents: 93.

Frequency of Response: Six times per year.

Estimated Total Annual Hour Burden: 110,809 hours.

Estimated Total Capital Annual Costs: $3,699,481, which includes $0 annualized capital/startup costs, $0 annual O&M costs, and $3,699,481 annual labor costs.

Changes in the Estimates: There is an increase of 25,313 hours in the total estimated burden currently identified in the OMB Inventory of Approved ICR Burdens. This increase was attributable to several new data elements added to the new Minimum Data Requirements (MDRs) in this renewal ICR, with an adjustment to the baseline count of hours. The new MDRs will not be effective until October 1, 2005.

Dated: January 25, 2005.
Oscar Morales,
Director, Collection Strategies Division.

[FR Doc. 05-2067 Filed 2-2-05; 8:45 am]

BILLING CODE 6560-50-P